DEPARTMENT OF TRANSPORTATION

Federal Aviation Administration

14 CFR Part 39

[Docket No. FAA-2016-9298; Directorate Identifier 2015-NM-161-AD; Amendment 39-18811; AD 2017-05-01]

RIN 2120-AA64

Airworthiness Directives; Airbus Airplanes

AGENCY: Federal Aviation Administration (FAA), Department of Transportation (DOT).

ACTION: Final rule.

SUMMARY: We are adopting a new airworthiness directive (AD) for all Airbus Model A300 series airplanes. This AD was prompted by an evaluation by the design approval holder (DAH) that indicates that a section of the wing and aft fuselage is subject to widespread fatigue damage (WFD). This AD requires an inspection to determine if certain modifications have been done. We are issuing this AD to address the unsafe condition on these products.

DATES: This AD is effective April 7, 2017.

The Director of the Federal Register approved the incorporation by reference of certain publications listed in this AD as of April 7, 2017.

ADDRESSES: For service information identified in this final rule, contact Airbus SAS, Airworthiness Office-EAW, 1 Rond Point Maurice Bellonte, 31707 Blagnac Cedex, France; telephone: +33 5 61 93 36 96; fax: +33 5 61 93 44 51; email: continued.airworthiness-wb.external@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2016-9298.

Examining the AD Docket

You may examine the AD docket on the Internet at http://www.regulations.gov by searching for and locating Docket No. FAA-2016-9298; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Discussion

We issued a notice of proposed rulemaking (NPRM) to amend 14 CFR part 39 by adding an AD that would apply to all Airbus Model A300 series airplanes. The NPRM published in the Federal Register on October 26, 2016 (81 FR 74354) (“the NPRM”). The NPRM was prompted by an evaluation by the DAH that indicates that a section of the wing and aft fuselage is subject to WFD. The NPRM proposed to require an inspection to determine if certain modifications have been done. For airplanes on which the specified modifications have not been done, this AD requires accomplishing those modifications, including doing related investigative and corrective actions if necessary. We are issuing this AD to prevent reduced structural integrity of these airplanes due to the failure of certain structural components.

The European Aviation Safety Agency (EASA), which is the Technical Agent for the Member States of the European Union, has issued EASA AD 2015-0173R1, dated August 31, 2016, (referred to after this as the Mandatory Continuing Airworthiness Information, or “the MCAI”), to correct an unsafe condition for all Airbus Model A300 series airplanes. The MCAI states:

A widespread fatigue damage (WFD) analysis conducted on A300 aeroplanes identified areas which are susceptible to crack development.

This condition, if not corrected, could affect the structural integrity of the aeroplane.

To address this issue, Airbus developed a modification (mod) to reinforce the structure of the aeroplane. Airbus issued Service Bulletin (SB) A300-53-0271 to provide instructions for a cold expansion of the foot attachment holes of certain fuselage frames, and DGAC [Direction Générale de l'Aviation Civile] France issued AD F-2004-001 to require this mod [which corresponds with certain requirements in FAA AD 2004-23-20, Amendment 39-13875 (69 FR 68779, November 26, 2004)].

Since that [DGAC] AD was issued, Airbus released twelve other mods with corresponding SBs, to complete the set of inspections and repairs in the frame of the A300 WFD campaign. EASA issued AD 2015-0115 to require ten of these mods through section 3 of ALS [Airworthiness Limitations Section] Part 2, and decision is made to delete section 3 from ALS Part 2.

For the reasons described above, EASA issued AD 2015-0173, retaining the requirements of DGAC France AD F-2004-001, which was superseded, to require implementation of the additional inspection, modification and/or repair actions, as applicable to aeroplane model.

This [EASA] AD is revised to give credit for previous use of any earlier revision of an affected Airbus SB, based on the fact that no additional work is included in the later SB revisions.

Required actions include an inspection to determine if certain modifications have been done. For airplanes on which the specified modifications have not been done, this AD requires accomplishing those modifications, including doing related investigative and corrective actions if necessary. Depending on airplane configuration, the compliance times for modifying the airplane structure range between 13,300 flight cycles and 48,000 flight cycles since first flight of the airplane. You may examine the MCAI in the AD docket on the Internet at http://www.regulations.gov by searching for and locating Docket No. FAA-2016-9298.

Comments

We gave the public the opportunity to participate in developing this AD. We received no comments on the NPRM or on the determination of the cost to the public.

Conclusion

We reviewed the relevant data and determined that air safety and the public interest require adopting this AD as proposed except for minor editorial changes. We have determined that these minor changes:

• Are consistent with the intent that was proposed in the NPRM for correcting the unsafe condition; and

• Do not add any additional burden upon the public than was already proposed in the NPRM.

Related Service Information Under 1 CFR Part 51

Airbus issued the following service information:

• Airbus Service Bulletin A300-53-0239, Revision 02, dated March 6, 2000. This service information describes procedures to modify the longitudinal junction. The modification includes the addition of external doublers and installation of interference fit attachments and related investigative and corrective actions. The related investigative actions are rotary probe inspections for cracking of the fastener holes. The corrective action is repair.

• Airbus Service Bulletin A300-53-247, Revision 2, dated July 20, 1990. This service information describes procedures to modify the fuselage upper door frame structure, which consists of eddy current inspections of certain structure for cracks, and structural modification or repair.

• Airbus Service Bulletin A300-53-0271, Revision 05, dated June 21, 2013. This service information describes procedures to modify the fuselage frame (FR), which includes cold expansion of the fastener holes between FR 41 and FR 54, and related investigative and corrective actions. The related investigative actions including rotary probe inspections for cracking of the fastener holes. The corrective action is repair.

• Airbus Service Bulletin A300-53-0366, dated April 7, 2005. This service information describes procedures to modify the fuselage frame, which includes installing an additional external doubler on the fuselage lap joint at fuselage stringers (STGR) 22, left and right, between FR 26 and FR 40.

• Airbus Service Bulletin A300-53-0368, dated April 7, 2005. This service information describes procedures to modify the rear fuselage, which includes installing an additional external doubler on the fuselage lap joint at STGR 51, left and right, between FR 72 and FR 80.

• Airbus Service Bulletin A300-53-0369, Revision 03, dated September 1, 2010. This service information describes procedures to modify the rear fuselage, which includes reinforcing the butt joint at FR 72 by installation of an additional external doubler at the butt joint of FR 72 at STGR 14, left and right.

• Airbus Service Bulletin A300-53-0373, Revision 03, dated September 1, 2010. This service information describes procedures to modify the rear fuselage, which includes reinforcing the butt joint at FR65 by installation of an additional external doubler at the butt joint of FR65 between STGR 13 left and right.

• Airbus Service Bulletin A300-53-0374, Revision 04, dated July 5, 2013. This service information describes procedures to modify the rear fuselage, which includes reinforcing the butt joints at FR55 and FR58 by installation of additional external doublers without cutout at certain butt joints.

• Airbus Service Bulletin A300-53-0375, Revision 01, dated June 24, 2013. This service information describes procedures to modify the forward fuselage, which includes reinforcing the fuselage circumferential butt joint at FR 26 by installation of an additional external doubler at the butt joint of FR 26 between STGR 13 left and STGR 13 right.

• Airbus Service Bulletin A300-53-0393, dated September 27, 2013. This service information describes procedures to modify the fuselage frame which includes reinforcing the longitudinal butt joints with additional butt straps at certain fuselage frames and stringers.

• Airbus Service Bulletin A300-57-0203, Revision 04, dated February 18, 2015. This service information describes procedures to modify the outer wing, which includes removal of the wing stringer and run-out plate at STGR 19 on the bottom wing skin; replacement of the taper-lok bolts with interference fit parallel bolts; and related investigative and corrective actions. Related investigative actions include detailed visual and high frequency eddy current (HFEC) inspections of the stringer runouts for cracks; eddy current inspections for cracks of the fastener holes; and detailed visual and HFEC inspections of the stringer run-outs for cracks and damage. Corrective actions include repair.

• Airbus Service Bulletin A300-57-0258, dated September 30, 2014 (for Model A300 B4-103 and A300 B4-2C airplanes). This service information describes procedures to modify the wing structure, which includes a first oversize of the critical holes on certain wing stringers, and related investigative and corrective actions. Related investigated actions include detailed visual inspections for damage of the top wing skin external surface and the stringer joint; and roto-probe inspections for damage of the fastener holes. Corrective actions include repair.

• Airbus Service Bulletin A300-57-0259, dated September 30, 2014 (for Model A300 B2-1C, A300 B2-203, and A300 B2K-3C airplanes). This service information describes procedures to modify the wing structure, which includes a first oversize of the critical holes on certain wing stringers, and related investigative and corrective actions. Related investigated actions include detailed visual inspections for damage of the top wing skin external surface and the stringer joint; and roto-probe inspections for damage of the fastener holes. Corrective actions include repair.

This service information is reasonably available because the interested parties have access to it through their normal course of business or by the means identified in the ADDRESSES section.

Costs of Compliance

We estimate that this AD affects 8 airplanes of U.S. registry.

We estimate the following costs to comply with this AD:

Estimated Costs
Action | Labor cost | Parts cost | Cost per product | Cost on U.S. operators
Modification | 3,291 work-hours × $85 per hour = $279,735 | $142,845 | $422,580 | $3,380,640

In addition, we estimate that any necessary follow-on actions will take about 15 work-hours and require parts costing $10,000, for a cost of $11,275 per product. We have no way of determining the number of aircraft that might need this action.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-05-01 Airbus: Amendment 39-18811; Docket No. FAA-2016-9298; Directorate Identifier 2015-NM-161-AD.

(a) Effective Date

This AD is effective April 7, 2017.

(b) Affected ADs

This AD affects AD 2004-23-20, Amendment 39-13875 (69 FR 68779, November 26, 2004) (“AD 2004-23-20”).

(c) Applicability

This AD applies to Airbus Model A300 B2-1A, B2-1C, B2K-3C, B2-203, B4-2C, B4-103, and B4-203 airplanes, certificated in any category, all manufacturer serial numbers.

(d) Subject

Air Transport Association (ATA) of America Code 53, Fuselage.

(e) Reason

This AD was prompted by an evaluation by the design approval holder that indicates that a section of the wing and aft fuselage is subject to widespread fatigue damage. We are issuing this AD to prevent reduced structural integrity of these airplanes due to the failure of certain structural components.

(f) Compliance

Comply with this AD within the compliance times specified, unless already done.

(g) Verification of Embodied Modifications

Within 4 months after the effective date of this AD, verify whether the Airbus modifications specified in table 1 to paragraphs (g), (h), and (i) of this AD, as applicable to airplane model, have been embodied on the airplane, in accordance with the Accomplishment Instructions of the applicable Airbus service bulletin specified in table 1 to paragraphs (g), (h), and (i) of this AD. A review of the airplane maintenance records is acceptable to accomplish the verification required by this paragraph, provided those records can be used to conclusively determine whether the modifications have been embodied.

Table 1 to Paragraphs (g), (h), and (i) of This AD—Airbus Modification and Applicable Service Bulletin
Set | Airbus modification | Applicable Airbus service bulletin
Set 1A | 751 | A300-53-247, Revision 2, dated July 20, 1990.
| 7301 | A300-53-0239, Revision 02, dated March 6, 2000.
| 10326 | A300-57-0203, Revision 04, dated February 18, 2015.
| 12735 | A300-53-0366, dated April 7, 2005.
| 12736 | A300-53-0368, dated April 7, 2005.
| 12737 | A300-53-0369, Revision 03, dated September 1, 2010.
| 12798 | A300-53-0375, Revision 01, dated June 24, 2013.
| 07757 and 12977 | A300-53-0271, Revision 05, dated June 21, 2013.
| 13611 | A300-57-0258, dated September 30, 2014.
| 13692 | A300-53-0393, dated September 27, 2013.
| 13716 | A300-57-0259, dated September 30, 2014.
Set 1B | 12794 | A300-53-0374, Revision 04, dated July 5, 2013.
| 12796 | A300-53-0373, Revision 03, dated September 1, 2010.

(h) Corrective Actions for Modifications Which Have Not Been Embodied

If, during the verification required by paragraph (g) of this AD, it is determined that any modification has not been embodied, do the applicable actions specified in paragraphs (h)(1), (h)(2), and (h)(3) of this AD.

(1) If it is determined that any Airbus modification, specified in the applicable Airbus Service Bulletin, identified in “Set 1A” of table 1 to paragraphs (g), (h), and (i) of this AD is not embodied: Within the applicable compliance time specified in the applicable Airbus Service Bulletin identified in “Set 1A” of table 1 to paragraphs (g), (h), and (i) of this AD, or within 4 months after the effective date of this AD, whichever occurs later, do the applicable actions specified in paragraphs (h)(1)(i) through (h)(1)(xi) of this AD, except as required by paragraph (i) of this AD. Do all applicable related investigative and corrective actions before further flight.

(i) For airplanes on which Airbus Service Bulletin A300-53-0239, Revision 02, dated March 6, 2000, has not been embodied: Modify the longitudinal junction and do all applicable related investigative and corrective actions, in accordance with the Accomplishment Instructions of Airbus Service Bulletin A300-53-0239, Revision 02, dated March 6, 2000.

(ii) For airplanes on which Airbus Service Bulletin A300-53-247, Revision 2, dated July 20, 1990, has not been embodied: Modify the fuselage upper door frame structure by doing eddy current inspections for cracks of the structure specified in Airbus Service Bulletin A300-53-247, Revision 2, dated July 20, 1990, and a structural modification or repair, as applicable, in accordance with the Accomplishment Instructions of Airbus Service Bulletin A300-53-247, Revision 2, dated July 20, 1990.

(iii) For airplanes on which Airbus Service Bulletin A300-53-0271, Revision 05, dated June 21, 2013, has not been embodied: Modify the fuselage frame, and do all applicable related investigative and corrective actions, in accordance with the Accomplishment Instructions of Airbus Service Bulletin A300-53-0271, Revision 05, dated June 21, 2013.

(iv) For airplanes on which Airbus Service Bulletin A300-53-0366, dated April 7, 2005, has not been embodied: Modify the fuselage frame, in accordance with the Accomplishment Instructions of Airbus Service Bulletin A300-53-0366, dated April 7, 2005.

(v) For airplanes on which Airbus Service Bulletin A300-53-0368, dated April 7, 2005, has not been embodied: Modify the rear fuselage, in accordance with the Accomplishment Instructions of Airbus Service Bulletin A300-53-0366, dated April 7, 2005.

(vi) For airplanes on which Airbus Service Bulletin A300-53-0369, Revision 03, dated September 1, 2010, has not been embodied: Modify the rear fuselage, in accordance with the Accomplishment Instructions of Airbus Service Bulletin A300-53-0369, Revision 03, dated September 1, 2010.

(vii) For airplanes on which Airbus Service Bulletin A300-53-0375, Revision 01, dated June 24, 2013, has not been embodied: Modify the forward fuselage, in accordance with the Accomplishment Instructions of Airbus Service Bulletin A300-53-0375, Revision 01, dated June 24, 2013.

(viii) For airplanes on which Airbus Service Bulletin A300-53-0393, dated September 27, 2013, has not been embodied: Modify the fuselage frame, in accordance with the Accomplishment Instructions of Airbus Service Bulletin A300-53-0393, dated September 27, 2013.

(ix) For airplanes on which Airbus Service Bulletin A300-57-0203, Revision 04, dated February 18, 2015, has not been embodied: Modify the outer wing, and do all applicable related investigative and corrective actions, in accordance with the Accomplishment Instructions of Airbus Service Bulletin A300-57-0203, Revision 04, dated February 18, 2015.

(x) For airplanes on which Airbus Service Bulletin A300-57-0258, dated September 30, 2014, has not been embodied: Modify the wing structure and do all applicable related investigative and corrective actions, in accordance with the Accomplishment Instructions of Airbus Service Bulletin A300-57-0258, dated September 30, 2014.

(xi) For airplanes on which Airbus Service Bulletin A300-57-0259, dated September 30, 2014, has not been embodied: Modify the wing structure, and do all applicable related investigative and corrective actions, in accordance with the Accomplishment Instructions of Airbus Service Bulletin A300-57-0259, dated September 30, 2014.

(2) If it is determined that Airbus Service Bulletin A300-53-0374, Revision 04 dated July 5, 2013 (mod 12794) has not been embodied: Within the compliance time specified in paragraphs (h)(2)(i), (h)(2)(ii), (h)(2)(iii), and (h)(2)(iv) of this AD, as applicable, modify the rear fuselage, in accordance with the Accomplishment Instructions of Airbus Service Bulletin A300-53-0374, Revision 04, dated July 5, 2013, except as required by paragraph (i) of this AD.

(i) For Model A300 B2 and A300 B4-100 airplanes, fuselage frame (FR) 55: Within 31,300 flight cycles since first flight of the airplane, or within 4 months after the effective date of this AD, whichever occurs later.

(ii) For Model A300 B2 and A300 B4-100 airplanes, FR 58: Within 49,700 flight cycles since first flight of the airplane, or within 4 months after the effective date of this AD, whichever occurs later.

(iii) For Model A300 B4-200 airplanes, FR 55: Within 33,600 flight cycles since first flight of the airplane, or within 4 months after the effective date of this AD, whichever occurs later.

(iv) For Model A300 B4-200 airplanes, FR 58: Within 55,800 flight cycles since first flight of the airplane, or within 4 months after the effective date of this AD, whichever occurs later.

(3) If it is determined that Airbus Service Bulletin A300-53-0373, Revision 03, dated September 1, 2010 (mod 12796) has not been embodied: Within the compliance time specified in paragraphs (h)(3)(i), (h)(3)(ii), and (h)(3)(iii) of this AD, as applicable, modify the rear fuselage, in accordance with the Accomplishment Instructions of Airbus Service Bulletin A300-53-0373, Revision 03, dated September 1, 2010, except as required by paragraph (i) of this AD.

(i) For Model A300 B2 airplanes: Within 42,700 flight cycles since first flight of the airplane, or within 4 months after the effective date of this AD, whichever occurs later.

(ii) For Model A300 B4-100 airplanes: Within 41,700 flight cycles since first flight of the airplane, or within 4 months after the effective date of this AD, whichever occurs later.

(iii) For Model A300 B4-200 airplanes: Within 47,900 flight cycles since first flight of the airplane, or within 4 months after the effective date of this AD, whichever occurs later.

(i) Exception to the Service Information

Where any service information identified in table 1 to paragraphs (g), (h), and (i) of this AD specifies to contact the manufacturer for instructions or solutions, before further flight, repair using a method approved by the Manager, International Branch, ANM-116, Transport Airplane Directorate, FAA; or the European Aviation Safety Agency (EASA); or Airbus's EASA Design Organization Approval (DOA).

(j) Terminating Action for Certain Requirements in AD 2004-23-20

Accomplishing the modification required by paragraph (h)(1)(iii) of this AD terminates the modification required by paragraph (i) of AD 2004-23-20 for that airplane only.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-1405; fax 425-227-2125. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or EASA; or Airbus's EASA DOA. If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Related Information

Refer to Mandatory Continuing Airworthiness Information (MCAI) EASA AD 2015-0173R1, dated August 31, 2016, for related information. This MCAI may be found in the AD docket on the Internet at http://www.regulations.gov by searching for and locating Docket No. FAA-2016-9298.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A300-53-0239, Revision 02, dated March 6, 2000.

(ii) Airbus Service Bulletin A300-53-247, Revision 2, dated July 20, 1990.

(iii) Airbus Service Bulletin A300-53-0271, Revision 05, dated June 21, 2013.

(iv) Airbus Service Bulletin A300-53-0366, dated April 7, 2005.

(v) Airbus Service Bulletin A300-53-0368, dated April 7, 2005.

(vi) Airbus Service Bulletin A300-53-0369, Revision 03, dated September 1, 2010.

(vii) Airbus Service Bulletin A300-53-0373, Revision 03, dated September 1, 2010.

(viii) Airbus Service Bulletin A300-53-0374, Revision 04, dated July 5, 2013.

(ix) Airbus Service Bulletin A300-53-0375, Revision 01, dated June 24, 2013.

(x) Airbus Service Bulletin A300-53-0393, dated September 27, 2013.

(xi) Airbus Service Bulletin A300-57-0203, Revision 04, dated February 18, 2015.

(xii) Airbus Service Bulletin A300-57-0258, dated September 30, 2014.

(xiii) Airbus Service Bulletin A300-57-0259, dated September 30, 2014.

(3) For service information identified in this AD, contact Airbus SAS, Airworthiness Office-EAW, 1 Rond Point Maurice Bellonte, 31707 Blagnac Cedex, France; telephone: +33 5 61 93 36 96; fax: +33 5 61 93 44 51; email: continued.airworthiness-wb.external@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on February 16, 2017.
Thomas Groves,
Acting Manager, Transport Airplane Directorate, Aircraft Certification Service.

[FR Doc. 2017-03951 Filed 3-2-17; 8:45 am]

BILLING CODE 4910-13-P